DEPARTMENT OF ENERGY

Federal Energy Regulatory Commission

[Project No. 12642-001]

Wilkesboro Hydroelectric Company, LLC; Notice of Intent To File License Application, Filing of Pre-Application Document, and Approving Use of the Traditional Licensing Process

December 16, 2008.

a. Type of Filing: Notice of Intent to File License Application and Request to Use the Traditional Licensing Process.

b. Project No.: 12642-001.

c. Date Filed: October 1, 2008.

d. Submitted by: Wilkesboro Hydroelectric Company, LLC (Wilkesboro).

e. Name of Project: W. Kerr Scott Hydropower Project.

f. Location: At the U.S. Army Corps of Engineers' W. Kerr Scott Dam on the Yadkin River near Wilkesboro, Wilkes County, North Carolina.

g. Filed Pursuant to: 18 CFR 5.3 of the Commission's Regulations

h. Potential Applicant Contact: Kevin Edwards, Manager, Wilkesboro Hydroelectric Company, LLC, P.O. Box 143, Mayodan, NC 27027; (336) 589-6138; e-mail—ph@piedmonthydropower.com.

i. FERC Contact: Allyson Conner (202) 502-6082 or by e-mail at allyson.conner@ferc.gov.

j. Wilkesboro filed its request to use the Traditional Licensing Process on October 1, 2008. Wilkesboro filed public notice of its request on October 23, 2008. In a letter dated December 16, 2008, the Director of the Office of Energy Projects approved Wilkesboro's request to use the Traditional Licensing Process.

k. With this notice, we are initiating informal consultation with: (a) The U.S. Fish and Wildlife Service and National Marine Fisheries Service (NMFS) under section 7 of the Endangered Species Act and the joint agency regulations thereunder at 50 CFR, Part 402; (b) NMFS under section 305(b) of the Magnuson-Stevens Fishery Conservation and Management Act and implementing regulations at 50 CFR 600.920; and (c) the North Carolina State Historic Preservation Officer, as required by section 106, National Historical Preservation Act, and the implementing regulations of the Advisory Council on Historic Preservation at 36 CFR 800.2.

l. Wilkesboro filed a Pre-Application Document (PAD; including a proposed process plan and schedule) with the Commission, pursuant to 18 CFR 5.6 of the Commission's Regulations.

m. A copy of the PAD is available for review at the Commission in the Public Reference Room or may be viewed on the Commission's Web site (http://www.ferc.gov), using the “eLibrary” link. Enter the docket number, excluding the last three digits, in the docket number field to access the document. For assistance, contact FERC Online Support at FERCOnlineSupport@ferc.gov, or toll-free at 1-866-208-3676, or for TTY, (202) 502-8659. A copy is also available for inspection and reproduction at the address in paragraph h.

n. Register online at http://ferc.gov/esubscribenow.htm to be notified via e-mail of new filings and issuances related to this or other pending projects. For assistance, contact FERC Online Support.

Kimberly D. Bose,
Secretary.

[FR Doc. E8-30400 Filed 12-22-08; 8:45 am]

BILLING CODE 6717-01-P